DEPARTMENT OF HEALTH AND HUMAN SERVICES

Food and Drug Administration

[Docket No. 91F-0170]

W.R. Grace & Co.; Withdrawal of Food Additive Petition

AGENCY: Food and Drug Administration, HHS.

ACTION: Notice.

SUMMARY: The Food and Drug Administration (FDA) is announcing the withdrawal, without prejudice to a future filing, of a food additive petition (FAP 1B4257) proposing that the food additive regulations be amended to provide for the safe use of styrene-n-butyl acrylate-acrylic acid terpolymer, 1,2-benzisothiazolin-3-one, and sulfosuccinic acid 4-ester with polyethylene glycol dodecyl ether, disodium salt as components in can end cements in contact with food.

FOR FURTHER INFORMATION CONTACT: Andrew J. Zajac, Center for Food Safety and Applied Nutrition (HFS-215), Food and Drug Administration, 200 C St. SW., Washington, DC 20204, 202-418-3095.

SUPPLEMENTARY INFORMATION: In a notice published in the Federal Register of July 16, 1991 (56 FR 32435), FDA announced that a food additive petition (FAP 1B4257) had been filed by W.R. Grace, Ltd., Cromwell Rd., St. Neots, Huntingdon, Cambridgeshire PE 19 1QL, England (now W.R. Grace & Co., Darex Container Products, 62 Whittemore Ave., Cambridge, MA 02140). The petition proposed to amend the food additive regulations in § 175.300 Resinous and polymeric coatings (21 CFR 175.300) to provide for the safe use of styrene-n-butyl acrylate-acrylic acid terpolymer, 1,2-benzisothiazolin-3-one, and sulfosuccinic acid 4-ester with polyethylene glycol dodecyl ether, disodium salt as components in can end cements in contact with food. W.R. Grace & Co. has now withdrawn the petition without prejudice to a future filing (21 CFR 171.7).

Dated: September 26, 2000.
Alan M. Rulis,
Director, Office of Premarket Approval, Center for Food Safety and Applied Nutrition.

[FR Doc. 00-26250 Filed 10-12-00; 8:45 am]

BILLING CODE 4160-01-F